DEPARTMENT OF COMMERCE

National Oceanic and Atmospheric Administration

[RTID 0648-XD497]

Pacific Island Fisheries; Marine Conservation Plan for the Pacific Insular Area for the Commonwealth of the Northern Mariana Islands; Western Pacific Sustainable Fisheries Fund

AGENCY: National Marine Fisheries Service (NMFS), National Oceanic and Atmospheric Administration (NOAA), Commerce.

ACTION: Notice of agency decision.

SUMMARY: NMFS announces approval of a Marine Conservation Plan (MCP) for the Commonwealth of the Northern Mariana Islands (CNMI).

DATES: This agency decision is effective from the publication of this notice through August 3, 2026.

ADDRESSES: You may obtain a copy of the MCP, identified by NOAA-NMFS-2023-0150, from the Federal e-Rulemaking Portal, https://www.regulations.gov and type NOAA-NMFS-2023-0150 in the Search box (note: copying and pasting the FDMS Docket Number directly from this document may not yield search results), or from the Western Pacific Fishery Management Council (Council), 1164 Bishop St., Suite 1400, Honolulu, HI 96813, telephone 808-522-8220, https://www.wpcouncil.org.

FOR FURTHER INFORMATION CONTACT: Keith Kamikawa, Sustainable Fisheries, NMFS Pacific Islands Regional Office, 808-725-5177.

SUPPLEMENTARY INFORMATION: Section 204(e) of the Magnuson-Stevens Fishery Conservation and Management Act (Magnuson-Stevens Act) authorizes the Secretary of State, with the concurrence of the Secretary of Commerce (Secretary), and in consultation with the Council, to negotiate and enter into a Pacific Insular Area fishery agreement (PIAFA). A PIAFA would allow foreign fishing within the U.S. Exclusive Economic Zone (EEZ) adjacent to American Samoa, Guam, or the CNMI. The Governor of the Pacific Insular Area to which the PIAFA applies must request the PIAFA. The Secretary of State may negotiate and enter the PIAFA after consultation with, and concurrence of, the applicable Governor.

Before entering into a PIAFA, the applicable Governor, with concurrence of the Council, must develop and submit to the Secretary a 3-year MCP providing details on uses for any funds collected by the Secretary under the PIAFA. NMFS is the designee of the Secretary for MCP review and approval. The Magnuson-Stevens Act requires payments received under a PIAFA to be deposited into the United States Treasury and then conveyed to the Treasury of the Pacific Insular Area for which funds were collected.

In the case of violations by foreign fishing vessels in the EEZ around any Pacific Insular Area, amounts received by the Secretary attributable to fines and penalties imposed under the Magnuson-Stevens Act, including sums collected from the forfeiture and disposition or sale of property seized subject to its authority, shall be deposited into the Treasury of the Pacific Insular Area adjacent to the EEZ in which the violation occurred, after direct costs of the enforcement action are subtracted. The Pacific Insular Area government may use funds deposited into the Treasury of the Pacific Insular Area for fisheries enforcement and for implementation of an MCP.

Federal regulations at 50 CFR 665.819 authorize NMFS to specify catch limits for longline-caught bigeye tuna for U.S. territories. NMFS may also authorize each territory to allocate a portion of that limit to U.S. longline fishing vessels that are permitted to fish under the Fishery Ecosystem Plan for Pelagic Fisheries of the Western Pacific (FEP). Payments collected under specified fishing agreements are deposited into the Western Pacific Sustainable Fisheries Fund (SFF), and any funds attributable to a particular territory may be used only for implementation of that territory's MCP. An MCP must be consistent with the Council's FEPs, must identify conservation and management objectives (including criteria for determining when such objectives have been met), and must prioritize planned marine conservation projects.

At its 194th meeting held in March 2023, the Council reviewed and concurred with the MCP prepared by the Governor of the CNMI. This MCP was approved on June 20, 2023 and became effective on August 4, 2023 and is currently in effect (88 FR 39831). However, after the MCP was approved by NMFS in June 2023, the CNMI Department of Land and Natural Resources (DLNR) submitted an application to PIRO to use funds from the Western Pacific SFF to implement the MCP. NMFS staff determined that the projects described in the CNMI's application were not within the scope of the MCP currently in effect. This prompted the CNMI to develop a revised MCP that better addresses the needs of the CNMI and DLNR. The Council reviewed and concurred with the updated MCP at its 196th meeting in September 2023. Then on October 2, 2023, the Governor of the CNMI submitted the new MCP to NMFS for review and approval. The revised MCP contains the following seven conservation and management objectives:

1. Improve fisheries data collection and reporting;

2. Conduct resource assessment, monitoring, and research to gain a better understanding of marine resources and fisheries;

3. Conduct enforcement training and monitoring activities to promote compliance with federal and local mandates;

4. Promote responsible domestic fisheries development to provide long-term economic growth, stability, and local food production;

5. Conduct education and outreach, enhance public participation, and build local capacity;

6. Promote an ecosystem approach to fisheries management, climate change adaptation and mitigation, and regional cooperation; and

7. Recognize the importance of island cultures and traditional fishing practices in managing fishery resources, and foster opportunities for participation.

The conservation and management objectives of this revised MCP are identical to those included in the MCP currently in effect. Two of the projects identified to fulfill Objectives 3 and 5 have been revised. Please refer to the revised MCP for further detail. The evaluative criteria have also not been revised.

This notice announces that NMFS has reviewed the revised MCP submitted in October 2023, and has determined that it satisfies the requirements of the Magnuson-Stevens Act and is consistent with the Council's FEPs. Accordingly, NMFS has approved the MCP for the time period from the publication of this notice through August 3, 2026. This MCP supersedes the one approved previously for August 4, 2023, through August 3, 2026 (88 FR 39831, June 20, 2023).

Dated: December 5, 2023.
Everett Wayne Baxter,
Acting Director, Office of Sustainable Fisheries, National Marine Fisheries Service.

[FR Doc. 2023-27014 Filed 12-7-23; 8:45 am]

BILLING CODE 3510-22-P